DEPARTMENT OF ENERGY

Federal Energy Regulatory Commission

[Docket Nos. CP08-17-000, CP08-18-000]

Cimarron River Pipeline, LLC, Northern Natural Gas Company; Notice of Applications

November 14, 2007.

Take notice that on November 2, 2007 Cimarron River Pipeline, LLC (Cimarron), 1111 South 103rd Street, Omaha, Nebraska 68124, filed an application under section 7 of the Natural Gas Act (NGA) in Docket No. CP08-17-000, requesting a certificate of public convenience and necessity to acquire, own, and operate Anadarko Basin pipeline and compression facilities in the northern Texas panhandle, northwest Oklahoma, and southwest Kansas now owned by Northern Natural Gas Company. Cimarron also requests blanket certificates pursuant to Subpart F of Part 157 and Subpart G of Part 284 of the Commission's regulations, all as more fully set forth in the application which is on file with Commission and open to public inspection. Any questions regarding Cimarron's application should be directed to Katie Rice, Director, Regulatory Affairs, DCP Midstream, LP, 370 17th Street, Suite 2500, Denver, Colorado 80202; Phone at (303) 605-2166.

Also take notice that on November 2, 2007, Northern Natural Gas Company (Northern), 1111 South 103rd Street, Omaha, Nebraska 68124, filed an application under Section 7 of the NGA, in Docket No. CP08-18-000, requesting permission and approval to abandon by sale to Cimarron its Anadarko Basin area Beaver Wet System, including pipeline, compression, dehydrating, purification and delivery point facilities and appurtenances in various counties in Texas, Oklahoma and Kansas, all as more fully set forth in the request which is on file with Commission and open to public inspection. Any questions regarding Northern's application should be directed to Michael T. Loeffler, Senior Director of Certificates and External Affairs, Northern Natural Gas Company, 1111 South 103rd Street, Omaha, Nebraska 68124; Phone at (402) 398-7103.

Northern proposes to convey to Cimarron about 419 miles of its pipeline, compressor stations and all delivery and receipt points located along the various lengths of the pipeline and all other appurtenant facilities. The facilities are referred to by Northern as the Beaver Wet System and handle wet gas for processing. Cimarron is currently a subsidiary of Northern (formed for the purpose of this transaction); however, when the transaction is complete, Cimarron will come a under the control of DCP Midstream, LP, formerly Duke Energy Field Services, LP.

Northern requests that any required authorization under Section 7 of the NGA be granted since all of the assets that will be transferred to Cimarron. Northern also requests Commission approval to abandon the services it provides with respect to primary receipt and/or delivery points located on the facilities proposed for abandonment. Northern states that it proposes to convey the subject facilities to Cimarron at Northern's net book value. Finally, Northern requests that the Commission determine that Northern's proposed incidental compression service for Cimarron at the Beaver compressor station is in the public interest.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 5, 2007.

Kimberly D. Bose,
Secretary.

[FR Doc. E7-22824 Filed 11-21-07; 8:45 am]

BILLING CODE 6717-01-P